DEPARTMENT OF HEALTH AND HUMAN SERVICES

Health Resources and Services Administration

Council on Graduate Medical Education

AGENCY: Health Resources and Services Administration (HRSA), Department of Health and Human Services (HHS).

ACTION: Notice of charter renewal.

SUMMARY: HHS is hereby giving notice that the Council on Graduate Medical Education (COGME) has been renewed. The effective date of the renewed charter is September 30, 2016.

FOR FURTHER INFORMATION CONTACT: Dr. Kennita Carter, Senior Advisor and Designated Federal Official, Division of Medicine and Dentistry, HRSA, HHS, 15M116, 5600 Fishers Lane, Rockville, MD 20857. Phone: (301) 945-3505; email: kcarter@hrsa.gov.

SUPPLEMENTARY INFORMATION: COGME is authorized by section 762 (42 U.S.C. 294o) of the Public Health Service Act, as amended. Except where otherwise indicated, COGME is governed by provisions of the Federal Advisory Committee Act (5 U.S.C. App. 2), as amended, which sets forth standards for the formation and use of advisory committees. In accordance with the Federal Advisory Committee Act (FACA), COGME was initially chartered on September 30, 1996, and has been renewed at appropriate intervals.

COGME provides advice to the Secretary of HHS (Secretary) on a range of issues including: The supply and distribution of physicians in the United States; current and future physician shortages or excesses; issues relating to foreign medical school graduates; Federal policies related to the previously listed topics, including policies concerning changes in the financing of medical education training; and the development of performance measures and longitudinal evaluation of medical education programs. COGME's reports are submitted to the Secretary and Chairmen and Ranking Members of the Senate Committee on Health, Education, Labor, and Pensions and the House of Representatives Committee on Energy and Commerce.

Renewal of the COGME charter authorizes the Committee to operate until September 30, 2018.

A copy of the COGME charter is available on the COGME Web site at http://www.hrsa.gov/advisorycommittees/bhpradvisory/cogme/index.html. A copy of the charter also can be obtained by accessing the FACA database that is maintained by the Committee Management Secretariat under the General Services Administration. The Web site address for the FACA database is http://www.facadatabase.gov/.

Jason E. Bennett,
Director, Division of the Executive Secretariat.

[FR Doc. 2016-29499 Filed 12-8-16; 8:45 am]

BILLING CODE 4165-15-P